DEPARTMENT OF THE INTERIOR

Bureau of Land Management

[BLM_MT_FRN_MO4500180207]

New Recreation Fees on Public Lands in the Butte Field Office, Montana

AGENCY: Bureau of Land Management, Interior.

ACTION: Notice of new recreation fees.

SUMMARY: Pursuant to the Federal Lands Recreation Enhancement Act (FLREA), the Bureau of Land Management (BLM), Butte Field Office (BFO) is establishing new recreation fees to support expanded amenities at eight developed recreation sites: the Carbella, Crow Creek, Dickie Bridge, East Bank, Maiden Rock, Galena Gulch, Lower Toston, and Upper Toston campgrounds. The BFO is also establishing a standard amenity fee (day-use) for the Big Hole River Corridor, to include the Dickie Bridge, Divide Bridge, East Bank, Maiden Rock, and Jerry Creek day-use sites.

DATES: The new fees will take effect on May 14, 2025.

ADDRESSES: The business plan and information concerning these new fees may be reviewed at the Butte Field Office, 106 N Parkmont, Butte MT 59701; phone: (406) 533-7600; and online at: https://blm.gov/programs/recreation/permits-and-fees/business-plans.

FOR FURTHER INFORMATION CONTACT: Lindsey Babcock, Field Manager, telephone: (406) 533-7600, email: lbabcock@blm.gov. Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: The FLREA directs the Secretary to publish a 6-month advance notice in the Federal Register whenever new recreation fee areas are established.

Under section 6802(g)(2)(A) and (C) of FLREA, developed campgrounds and rental cabins qualify as sites wherein visitors can be charged an “Expanded Amenity Recreation Fee.”

Pursuant to FLREA and implementing regulations at 43 CFR part 2930 subpart 2933, fees may be charged for overnight camping, rental of cabins, and group use reservations where specific amenities and services are provided. Specific visitor fees will be identified and posted at each campground, day-use site, or rental cabin.

Under section 6802(f)(4) of FLREA, all day-use sites in this notice qualify as areas wherein visitors can be charged a “Standard Amenity Recreation Fee.” Pursuant to FLREA and implementing regulations at 43 CFR part 2930 subpart 2933, fees may be charged for an area where there are significant opportunities for outdoor recreation, that has substantial Federal investments, where fees can be efficiently collected, and that contains specific amenities and services. Specific visitor fees will be identified and posted at each day-use site.

This notice informs the public that the BLM BFO is establishing new recreation fees at campgrounds and day-use site as follows:

At the Carbella, Dickie Bridge, Maiden Rock, and East Bank campgrounds, an expanded amenity fee of $15 per campsite per night will be charged. An expanded amenity campground fee of $10 per campsite per night will be charged at the Crow Creek, Galena Gulch, Lower Toston, and Upper Toston campgrounds.

The BFO also is establishing a standard amenity fee (day use) of $5 per vehicle per day in the Big Hole River Corridor at the Dickie Bridge, Divide Bridge, East Bank, Maiden Rock and Jerry Creek day-use areas. In addition, the BFO is establishing a Big Hole day-use season pass fee of $20 for the Big Hole River day-use sites.

Campground and day-use fee information will be posted at each recreation site, available at the BFO, and available online through BLM websites and/or www.recreation.gov.

In response to increasing recreation demands and visitation on BLM lands, the BFO developed a recreation fee business plan. The business plan reviewed campgrounds and day-use sites where new Standard and Expanded Amenity Recreation Fees are needed to maintain visitor facilities and visitor services, replace aging infrastructure, and improve access to recreational opportunities. The business plan explains: (1) consistency with the BLM recreation fee program policy; (2) the BFO recreation management direction; (3) the need for fee collection; (4) how the fees will be used at the sites; (5) Resource Advisory Council coordination; and (6) guidance on future fee increases. As analyzed in the business plan, the recreation use fees are consistent with other nearby Federal land management agency fees and are lower than the fees charged at privately owned campgrounds. The business plan is available as listed in the ADDRESSES section.

The BLM notified and involved the public at each stage of this process. A public comment period on the draft business plan, announced via seven Facebook posts, ran from September 22, 2023, to November 17, 2023. Additionally, the BLM posted hard-copy notifications at each potentially affected recreation site, notified County Commissioners in Broadwater, Gallatin, Jefferson, Lewis and Clark, Silver Bow, and Park counties as well as Congressional staff, and conducted in-person meetings/presentations upon request. The BFO also contacted local special recreation permit holders who might be affected by the new fees. The final business plan was recommended for approval by the Western Montana Resource Advisory Council on December 11, 2023.

(Authority: 16 U.S.C. 6802 and 43 CFR part 2930 subpart 2933)

Sonya Germann,
State Director.

[FR Doc. 2024-26468 Filed 11-13-24; 8:45 am]

BILLING CODE 4331-20-P